DEPARTMENT OF LABOR

Occupational Safety and Health Administration

[Docket Nos. OSHA-2006-0028, OSHA-2007-0041]

Expansion of the Scope of NRTL Recognition of MET Laboratories, Inc.; Correction of the Scope of NRTL Recognition of FM Approvals, LLC

AGENCY: Occupational Safety and Health Administration (OSHA), Labor.

ACTION: Notice.

SUMMARY: This notice announces the Occupational Safety and Health Administration's final decision expanding the recognition of MET Laboratories, Inc., as a Nationally Recognized Testing Laboratory (NRTL) under 29 CFR 1910.7. This notice also proposes a correction to the scope of recognition of FM Approvals, LLC.

DATES: The expansion of recognition of MET Laboratories, Inc., becomes effective on December 13, 2010. For the FM Approvals, LLC, correction, submit information or comments, or any request for extension of the time to comment, on or before December 28, 2010. All submissions must bear a postmark or provide other evidence of the submission date. Do not submit comments or other responses regarding the expansion of recognition of MET Laboratories, Inc.

ADDRESSES: Submit comments by any of the following methods:

Electronically: Submit comments electronically at http://www.regulations.gov, which is the Federal eRulemaking Portal. Follow the instructions online for making electronic submissions.

Fax: If submissions, including attachments, are no longer than 10 pages, commenters may fax them to the OSHA Docket Office at (202) 693-1648.

Mail, hand delivery, express mail, or messenger or courier service: Submit one copy of the comments to the OSHA Docket Office, Docket No. OSHA-2007-0041, U.S. Department of Labor, Room N-2625, 200 Constitution Avenue, NW., Washington, DC 20210. Deliveries (hand, express mail, and messenger and courier service) are accepted during the Department of Labor's and Docket Office's normal business hours, 8:15 a.m.-4:45 p.m., e.t.

Instructions: All submissions must include the Agency name and the OSHA docket number (i.e., OSHA-2007-0041). OSHA will place all submissions, including any personal information provided, in the public docket without revision, and these submissions will be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of comment period: Submit requests for an extension of the comment period on or before December 28, 2010 to the Office of Technical Programs and Coordination Activities, NRTL Program, Occupational Safety and Health Administration, U.S. Department of Labor, 200 Constitution Avenue, NW., Room N-3655, Washington, DC 20210, or by fax to (202) 693-1644.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice that it is expanding recognition of MET Laboratories, Inc., (MET) as an NRTL. MET's expansion covers the use of additional test standards. OSHA's current scope of recognition for MET is in the following informational Web page: http://www.osha.gov/dts/otpca/nrtl/met.html.

OSHA recognition of an NRTL signifies that the organization has met the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for expansion or renewal of this recognition, following requirements in Appendix A to 29 CFR 1910.7. This appendix requires that the Agency publish two notices in the Federal Register in processing such an application. In the first notice, OSHA announces the application and provides its preliminary finding and, in the second notice, the Agency provides its final decision on the application. These notices set forth the NRTL's scope of recognition or modifications of that scope. OSHA maintains an informational Web page for each NRTL that details its scope of recognition. These pages are available from the Web site at http://www.osha.gov/dts/otpca/nrtl/index.html. Each NRTL's scope of recognition has three elements: (1) The type of products the NRTL may test, with each type specified by its applicable test standard; (2) the recognized site(s) that has/have the technical capability to perform the testing and certification activities for test standards within the NRTL's scope; and (3) the supplemental program(s) that the NRTL may use, each of which allows the NRTL to rely on other parties to perform activities necessary for product testing and certification.

MET submitted two applications, dated October 6 and November 3, 2008, to expand its recognition to include 18 additional test standards. (Exs. 2 and 3—MET expansion applications dated 10/6/2008 and 11/3/2008.) The NRTL Program staff determined that these standards are “appropriate test standards” within the meaning of 29 CFR 1910.7(c). In connection with this request, NRTL Program staff did not perform any on-site review of MET's recognized site. The staff only performed a comparability analysis,¹ and recommended expansion of MET's recognition to include the 12 test standards listed below. The Agency published a preliminary notice announcing the expansion application in the Federal Register on July 28, 2010 (75 FR 44289). OSHA requested comments on the notice by August 12, 2010; OSHA received no comments in response to this notice. OSHA now is proceeding with this final notice to grant MET's expansion application.

¹ This analysis involves determining whether the testing and evaluation requirements of test standards already in an NRTL's scope are comparable to the requirements in the standards requested by the NRTL.

All public documents pertaining to the MET application are available for review by contacting the Docket Office, Occupational Safety and Health Administration, U.S. Department of Labor, 200 Constitution Avenue, NW., Room N-2625, Washington, DC 20210. These materials also are available online at http://www.regulations.gov under Docket No. OSHA-2006-0028.

Final Decision and Order

NRTL Program staff examined MET's application, the comparability analysis, and other pertinent information. Based on this examination and the analysis, OSHA finds that MET meets the requirements of 29 CFR 1910.7 for expansion of its recognition, subject to the limitation and conditions specified below. Pursuant to the authority granted by 29 CFR 1910.7, OSHA hereby expands the recognition of MET, subject to this limitation and these conditions.

Limitation

OSHA limits the expansion of MET's recognition to testing and certification of products for demonstration of conformance to the following test standards, each of which OSHA determines is an appropriate test standard within the meaning of 29 CFR 1910.7(c):

UL 244A Solid State Controls for Appliances

UL 412 Refrigeration Unit Coolers

*UL 458 Power Converters/Inverters and Power Converter/Inverter Systems for Land Vehicles and Marine Crafts

UL 466 Electric Scales

UL 561 Floor-Finishing Machines

UL 1230 Amateur Movie Lights

UL 1278 Movable and Wall or Ceiling Hung Electric Room Heaters

UL 1594 Sewing and Cutting Machines

UL 1795 Hydromassage Bathtubs

UL 1951 Electric Plumbing Accessories

UL 1996 Electric Duct Heaters

UL 2021 Fixed and Location Dedicated Electric Room Heaters

*OSHA approves this standard for testing and certification of products for use within recreational vehicles and mobile homes.

The designations and titles of these test standards were current at the time of the preparation of this notice.

OSHA limits recognition of any NRTL for a particular test standard to equipment or materials (i.e., products) for which OSHA standards require third-party testing and certification before use of the product in the workplace. Consequently, if a test standard also covers any product for which OSHA does not require such testing and certification, an NRTL's scope of recognition does not include that product.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

Conditions

MET also must abide by the following conditions of the recognition, in addition to those conditions already required by 29 CFR 1910.7:

1. MET must allow access to its facilities and records to ascertain continuing compliance with the terms of its recognition, and to perform investigations as OSHA deems necessary;

2. If MET has reason to doubt the efficacy of any test standard it is using under this program, it must promptly inform the test standard-developing organization of this concern, and provide that organization with appropriate relevant information upon which it bases its concern;

3. MET must not engage in, or permit others to engage in, any misrepresentation of the scope or conditions of its recognition. As part of this condition, MET agrees that it will allow no representation that it is either a recognized or an accredited NRTL without clearly indicating the specific equipment or material to which this recognition applies, and also clearly indicating that its recognition is limited to specific products;

4. MET must inform OSHA as soon as possible, in writing, of any change of ownership, facilities, or key personnel, and of any major changes in its operations as an NRTL, including details of these changes;

5. MET will meet all the terms of its recognition, and will always comply with all OSHA policies pertaining to this recognition; and

6. MET will continue to meet the requirements for recognition in all areas covered by its scope of recognition.

Correction to FM Approvals Scope of Recognition

On October 25, 2010, OSHA published a notice (75 FR 65521) to expand the recognition of FM Approvals, LLC (FM). One of the standards added to FM's scope was UL 484 (Air Room Air Conditioners). Subsequent to the publication, FM informed OSHA that it instead intended to request recognition of UL 464 (Audible Signal Appliances). OSHA determined that FM has the capability for this standard, and proposes to add it to FM's scope of NRTL recognition.

OSHA welcomes public comments as to whether FM meets the requirements specified by 29 CFR 1910.7 for the proposed correction to its scope of recognition as a NRTL. Comments should consist of pertinent written documents and exhibits. Commenters needing more time to comment must submit a request in writing, stating the reasons for the request. OSHA must receive the written request for an extension by the due date for comments. OSHA will limit any extension to 30 days unless the requester justifies a longer period. OSHA may deny a request for an extension if it is not adequately justified. To obtain or review copies of the correction to FM's scope of recognition and other pertinent documents, and all submitted comments, contact the Docket Office, Room N-2625, Occupational Safety and Health Administration, U.S. Department of Labor, at the above address; these materials also are available online at http://www.regulations.gov under Docket No. OSHA-2007-0041.

The NRTL Program staff will review all timely comments and, after addressing the issues raised by these comments, will recommend whether to correct FM's scope of recognition. The Assistant Secretary will make the final decision on granting the request, and, in making this decision, may undertake other proceedings prescribed in Appendix A to 29 CFR 1910.7. OSHA will publish a public notice of this final decision in the Federal Register. However, because OSHA is only correcting the recognition, if OSHA receives no comments, it will add the standard to FM's scope without publishing a notice of final decision.

Authority and Signature

David Michaels, Ph.D., MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 4-2010 (75 FR 55355), and 29 CFR part 1911.

Signed at Washington, DC, on December 8, 2010.
David Michaels,
Assistant Secretary of Labor for Occupational Safety and Health.

[FR Doc. 2010-31190 Filed 12-10-10; 8:45 am]

BILLING CODE 4510-26-P